Department of Transportation

National Highway Traffic Safety Administration

Discretionary Cooperative Agreement To Support Metropolitan/Urban Projects To Increase African American Safety Belt Use

AGENCY: National Highway Traffic Safety Administration (NHTSA), Department of Transportation (DOT).

ACTION: Announcement of a Discretionary Cooperative Agreement to Support Metropolitan/Urban Demonstration Projects to Increase African American Safety Belt Use.

SUMMARY: The National Highway Traffic Safety Administration (NHTSA) announces a Discretionary Cooperative Agreement to provide funding to a national organization servicing the African American community to support demonstration projects in key metropolitan/urban cities designed to increase African American safety belt use. NHTSA anticipates funding one national organization for a period of three years that, if necessary, may sub-contract with local or community-based service providers to administer demonstration projects in approximately 3 to 4 sites, to be determined jointly by NHTSA and the successful applicant. This Notice solicits applications from national non-profit, not-for-profit and for-profit organizations. Interested applicants must submit an application packet meeting the requirements set forth in the application section of this Notice. NHTSA will evaluate the applications to determine which proposal will receive funding under this announcement.

DATES: Applications must be received no later than August 5, 2003, at 1 p.m., Eastern Standard Time.

ADDRESSES: Applications must be submitted to the National Highway Traffic Safety Administration, Office of Contracts and Procurements (NPO-220), ATTN: April Jennings, 400 7th Street SW., Room 5301, Washington, DC 20590. All applicants must include reference to NHTSA Cooperative Agreement Program No. DTNH22-03-H-05155

FOR FURTHER INFORMATION CONTACT: General administrative questions may be directed to April Jennings, Office of Contracts and Procurement at (202) 366-9571 or by e-mail: ajennings@nhtsa.dot.gov. Programmatic questions should be directed to Shirley Peterson Barton, Occupant Protection Division, NHTSA, NTI-112, 400 7th Street SW, Washington, DC 20590, fax (202) 366-7721 or by e-mail: sbarton@nhtsa.dot.gov. Interested applicants are advised that no separate application packages exist beyond the contents of this announcement.

SUPPLEMENTARY INFORMATION:

Background

Safety Belt Use Among African Americans Reaches an Unprecedented Level

After decades of being below the national average for safety belt use and suffering a higher incidence of deaths and injuries from motor vehicle crashes, African Americans have begun using safety belts at an increased rate. In 1996, only 51 percent of African Americans used safety belts. The latest National Occupant Protection Use Survey (NOPUS) indicates that safety belt use among African Americans reached an unprecedented level of 77 percent in 2002. This increase of 8 percentage points over the rate recorded in 2000 places African Americans slightly ahead of the overall population in safety belt use (currently observed at 75 percent).

Keys to Success

This dramatic increase appears to be the result of a combination of factors. Prior to the 2002 NOPUS, minorities were overrepresented in motor vehicle crashes. In response, NHTSA initiated a comprehensive outreach project to educate and enlist national African American organizations to focus on the motor vehicle problem. NHTSA also contracted with the Cambridge Institute for Applied Research to assess how best to reach the African American community. The Institute concluded that focusing on key metropolitan/urban areas with large African American populations would yield considerable results in increasing safety belt use and thereby reduce injuries and fatalities among this group.

Also leading the way in research relating to this issue was Meharry Medical College, a predominately African American Medical College, which released a report funded by General Motors Corporation entitled, Achieving A Credible Health and Safety Approach to Increasing Seat Belt Use Among African Americans. Meharry reported that by increasing safety belt use by African Americans to 100 percent, 1,300 lives could be saved, 26,000 injuries prevented and $2.5 billion saved every year. This report helped galvanize the commitment of the African American community and Black legislators to address traffic safety issues, particularly safety belt and child safety seat use. One of the recommendations from the Meharry Report suggested that a panel of African American leaders periodically convene to identify additional strategies to increase safety belt use in their community.

In October 1999, NHTSA collaborated with Meharry Medical College on a second report entitled, The Role of African-American National Organizations in Increasing Seat Belt Use Among African-Americans: A Health and Safety Forum & Student Practicum. One of the Forum's principal recommendations was to convene a national body, under the auspices of the U.S. Department of Transportation, whose purpose would be, “* * * to inspire and excite all sectors of the American public to take action and address the public health crisis (by providing) strategies that could be implemented by all Americans to close the gap in safety belt use.”

This led to significant efforts by several national African American leadership organizations, members of the Congressional Black Caucus, National Black Caucus of State Legislators, and most notably to the Blue Ribbon Panel to Increase Seat Belt Use Among African Americans. This Panel, which convened in June 2000 and consisted of African American leaders from civic, health and medicine, faith-based, academia, and law enforcement backgrounds, was charged with developing recommendations and strategies for increasing safety belt use among African Americans. The Panel documented its findings in a December 2000 report entitled, Blue Ribbon Panel To Increase Safety Belt Use Among African Americans: A Report to the Nation. The report, which stressed the need to increase safety belt use among this population and recommended a number of specific strategies, was well received by the African American community and government officials. It can be viewed at [http://www.bchle.org]

Concurrent with these research activities, NHTSA began working with States to implement the successful Click It or Ticket/Operation ABC Mobilizations. The Click It or Ticket model consists of intensive, widespread enforcement of a State's safety belt law coupled with earned and paid media that publicizes enforcement efforts. Specifically, media activities inform the motoring public directly about the enforcement campaign and paid media employs the “Click It or Ticket” slogan. Click It or Ticket, which began in North Carolina in 1993, has a strong track record of increasing safety belt use. Focus group testing demonstrates that Click It or Ticket's message resonates well with the hard-core non-user of safety belts.

NHTSA's May 2002 Click It or Ticket Mobilization, involving ten “full implementation States,” showed the effectiveness of the campaign's approach in raising safety belt use. Full participation involved a statewide coverage program employing the Click It or Ticket model of defined periods of earned media (5 weeks), paid media (2 weeks) and intensive enforcement (2 weeks). Paid media used “Click It or Ticket” or similar direct enforcement messages. During this mobilization, belt use increased 8.6 percentage points (on average) among the full implementation States, versus a 2.7 percentage point increase (on average) among partial implementation States. Partial implementation States had some variation of the full implementation, but not all of the elements, such as following the model's timeline but only conducted conducting modest paid media or covering only a portion of the State. There was a 0.5 percentage point increase (on average) in comparison States, which did not use direct paid advertisements.

Looking to the Future

Although the latest observational surveys of safety belt use for African Americans are positive, approximately one-quarter of this population still is not buckling up. The non-user segment of this population remains the most difficult group to reach and warrants enhanced efforts.

NHTSA's mission is to ensure that everyone is buckled up, and to develop and implement national activities that will generate further positive change in safety belt and child safety seat use. NHTSA's programs are tailored to meet the unique needs of communities, use evidence-based and proven strategies, and rely on close collaborations and partnerships with community-based service providers.

As part of this on-going effort to define strategies that work best to increase safety belt use in African American communities, NHTSA announces this demonstration program to examine the premise, presented by the Cambridge Institute for Applied Research, that focusing on key metropolitan/urban areas with large African American populations will reduce injuries and fatalities among this group. Through the award of a Cooperative Agreement to a national organization that serves the African American community, NHTSA hopes to increase safety belt use in metropolitan/urban communities with large African American populations and to identify effective strategies that can be replicated in other African American communities across the Nation.

In June 2003, the U.S. Secretary of Transportation, Administrator of NHTSA, and the National Council of Negro Women, convened a Leadership Forum on Increasing Safety Belt Use in the African American Community. The Forum served to acknowledge the recent increases in African American safety belt use and to reaffirm the recommendations of the Blue Ribbon Panel to Increase Seat Belt Use in the African American Community. In addition to acknowledging the success of the Blue Ribbon Panel, the Leadership Forum discussed next steps to further increase safety belt use among urban-based African American populations. The strategies identified by the Blue Ribbon Panel will be utilized in the demonstration program.

Objective

The objective of the demonstration program is to examine the impact of various strategies to increase safety belt use in key metropolitan/urban areas with large African American populations. NHTSA and the successful applicant will select sites in metropolitan/urban areas with diverse geographical distribution and with safety belt usage rates lower than the national average. By implementing different strategies in different selected sites, NHTSA and the successful applicant will have the capacity to evaluate the strategies' impact on safety belt use and, ultimately, their ability to reduce injuries and fatalities among this group.

Effective Strategies

Research has shown that combinations of strategies have been effective in increasing safety belt use. The greatest increases in safety belt use have come from highly visible enforcement programs, supplemented with paid advertising with a strong enforcement message. The Click It or Ticket message is simple and straightforward; “Wear your safety belt or you will get a ticket.” (The evaluation report is available at www.nhtsa.dot.gov/people/injury rsearch/index.html). Messages that are purely educational or safety oriented have not been shown to have as great of an effect (e.g., “What's Holding You Back”). There is some evidence that the people who can be educated to wear their safety belts already are wearing them, so education alone does not seem to increase safety belt use beyond a minimal level.

To assist the highway safety community in determining the most appropriate and effective strategies to increase safety belt use in African American populations, under this Cooperative Agreement, the successful applicant will assess variations of enforcement and education models. One of these approaches must be the Click It or Ticket model of high visibility law enforcement coupled with a strong enforcement media message. Other approaches might include education, health awareness programs, faith-based programs, or other programs proposed by the successful applicant.

Since we know that highly visible enforcement of a State's safety belt law, supplemented by paid media, is an effective tool for increasing safety belt use, the high visibility enforcement/media model must constitute at least part of the successful applicant and sub-grantee planned activities at most sites funded under this Cooperative Agreement.

Program Oversight

Under the Cooperative Agreement, the successful applicant will be responsible for managing the demonstration projects in key metropolitan/urban areas. NHTSA will work closely with the successful applicant to provide necessary technical assistance to any sub-grantee.

Evaluation of Programs

The successful applicant will be responsible for collecting information about program activities, resources, and outcomes. At a minimum, the successful applicant will conduct a process evaluation to document activities, materials, education activity, enforcement activity, and media activities expended on the program. The ultimate goal is to increase safety belt use among the African American population. To assess achievement of that goal, outcome measures must include pre- and post safety belt observation surveys to measure changes in safety belt usage rates as a result of the program. NHTSA also will require public perception surveys. A data collection and evaluation plan that describes the design for these observational surveys, as well as the public perception surveys, must be approved by NHTSA prior to conducting the surveys. Measuring public awareness will track the extent to which the successful applicant used media and other activities to make the African American public aware of the program. NHTSA will work with the successful applicant to select an independent evaluator to coordinate an outcome evaluation document changes in safety belt use among African Americans resulting from program activity. The successful applicant agrees to work with an independent evaluator in collecting information to document the success of the program.

NHTSA Involvement

NHTSA will provide:

1. Contracting Officer's Technical Representative (COTR)

Provide a Contracting Officer's Technical Representative (COTR) to participate in the planning and management of the Cooperative Agreement and to coordinate activities between the successful applicant and NHTSA;

2. Availability of Funds and Period of Performance

Provide a total of $2 million is currently available to support demonstration efforts in key metropolitan/urban areas during the performance of the Cooperative Agreement. The government anticipates making an award to one national organization for a total performance period of 3 years. This funding shall include all monies to support the demonstration site, evaluation, administration and management, and all other related expenses. The successful applicant will, with the approval of NHTSA, sub-contract with an independent evaluator to conduct a full evaluation of the project. NHTSA will require the successful applicant to set aside $400,000 for these activities;

3. Support

Provide technical assistance in response to specific requests from the successful applicant and/or sub-grantee and work collaboratively with both through phone conference calls, web site communications or meetings;

4. Briefing

Conduct a one-day initial briefing in Washington, DC for the successful applicant to discuss and determine requirements for completing tasks successfully and efficiently;

5. Data Related Research

Provide significant information and technical assistance from government sources and available resources (as deemed appropriate by the COTR), including safety belt use and African American population data; and

6. Oversight

Stimulate the exchange of ideas and information among recipients of related projects, including through periodic meetings and briefings.

Successful Applicant Responsibilities

First and foremost, NHTSA intends to replicate successful strategies and activities conducted pursuant to this Cooperative Agreement elsewhere throughout the Nation. Accordingly, this benchmark demonstration project will be closely monitored and its results shared with other programs and constituencies. NHTSA will work with the successful applicant to assure that the necessary components of the project are in place to fulfill this goal.

Successful applicant responsibilities include:

1. Briefing

Participate with key NHTSA resource staff in the initial briefing meeting, which will take place after the Cooperative Agreement is awarded. The purpose of the meeting will be to review the project's objectives, planned course of action, successful applicant responsibilities, milestones and deliverables, and to resolve any differences between the Government's technical approach and the successful applicant's approach. The successful applicant first shall conduct a short briefing (20 to 30 minutes) describing the organization's planned approach. The successful applicant shall provide attendees with appropriate briefing materials. After the prepared briefing, the successful applicant and NHTSA personnel will discuss specific details of the project.

2. Personnel and Equipment

Provide necessary skilled personnel and equipment needed for performing the work under this agreement. Assign a principal manager as the point of contact for NHTSA's Contracting Officer's Technical Representative (COTR) for the purpose of ongoing coordination and review of work under this agreement.

3. Site Selection

Identify, jointly with NHTSA, the 3 to 4 communities/sites where the successful applicant and/or sub-grantees will administer demonstration projects. Based on NHTSA's preliminary identification of locations with large proportionate African American populations and low safety belt use rates, potential sites include, but are not limited to the cities listed in Appendix A.

4. Strategy Identification

Identify the behavior change strategies, including high visibility enforcement and media, to be implemented in the various sites as approved by NHTSA.

5. Program Oversight

Provide ongoing program oversight at the selected sites including oversight of any sub-grantee. Ideally, the successful applicant will engage sub-grantees at selected sites that already have the infrastructure and capacity to implement the demonstration project, as required by NHTSA and the successful applicant. If no such entities exist at some or all of the sites selected, the successful applicant may use project resources, as approved by NHTSA, to develop infrastructure necessary for the implementation of the demonstration project at those sites(s). Through coordinated discussions, NHTSA and the successful applicant together will determine whether the successful applicant or one or more sub-grantees will implement demonstration projects at the selected sites. In either case, the successful applicant will provide ongoing and close oversight and coordination over demonstration project personnel at the site(s) to ensure the quality of the programs.

6. Foster Community Support

Build community support and buy-in for the program. Engage and mobilize policy makers, law enforcement (e.g., chiefs of police), mayors and other officials and community leaders at the selected sites. The successful applicant must ensure that efforts are coordinated with the Governor's Highway Safety Representative and the NHTSA Regional office in the related site locations.

7. Team Approach

Establish and maintain a highly credible internal and external team approach to prepare for and resolve any potential challenges presented by this Demonstration Project.

8. Evaluation

Work closely with an independent evaluator selected jointly by NHTSA and the successful applicant at the 3-4 selected sites to coordinate the design and execution of an evaluation model applicable to all demonstration projects conducted under this Cooperative Agreement. The successful applicant will be responsible for collecting information about program activities, resources, and outcomes, as well as engaging and paying the fees of the selected independent evaluator out of project funds. At a minimum, in partnership with NHTSA, the successful applicant will carry out a data collection and evaluation plan, and will conduct a process evaluation to document the activities, materials, education activity, enforcement activity, and media activities expended on the project.

9. Technical Assistance

Provide technical assistance to the personnel at the selected sites and in selected communities through conferences, annual meetings, journals, and established networks and affiliate organizations. Encourage personnel at the selected sites to coordinate their efforts under this Cooperative Agreement with existing highway safety programs, and facilitate an open exchange of information with other key players. Collaborate with other national organizations and local chapters of such organizations.

10. Results and Strategy Assessment

Identify remaining challenges to increasing safety belt use in the African American population. Identify what strategies can quickly be replicated, both locally, and nationally.

11. Report and Written Deliverables

Create a credible and culturally infused report of facts, safety education materials and examples of safety belt use. Distribute the materials and information through collaborative partnerships with community-based service and other organizations/groups including churches, civil rights and volunteer organizations, schools, educators, parents and students. Coordinate and compile “best practices” guide for other metropolitan cities, especially targeted at community leadership and lawmakers.

12. Record Keeping

Maintain accurate records of all internal executive and management discussions on planning, performance and evaluation activities related to this project. Accurate project records will greatly assist in the replication of the successful approaches and processes identified as a result of this Cooperative Agreement.

Eligibility Requirements

To be considered for the Metropolitan/Urban Demonstration Projects to Increase African American Safety Belt Use, the applicant must be a non-profit, not-for-profit or for profit national organization dedicated to serving the needs and/or addressing issues specific to African American communities.

The successful applicant must demonstrate that it has the infrastructure and staff sufficient to carry out the development, administration, coordination and implementation of activities required by this Agreement.

Specifically, successful applicants must have:

1. Demonstrated expertise in the development and implementation of traffic safety programs and have substantial knowledge of safety belt issues specific to the African American community;

2. an organizational infrastructure with adequate staff time necessary to handle the day-to-day logistical needs of the Metropolitan/Urban Demonstration Project to Increase African American Safety Belt Use;

3. a communications and office infrastructure sufficient to handle phone calls, conference calls, computer conferencing, faxes, emails, mailings, and other necessary group communications;

4. staff experienced in and/or with adequate writing skills to prepare press releases, reports, articles and other methods of promotion and communication;

5. demonstrated ability to work with the media (e.g., develop media buy plans, place media buys, etc.) or coordinate this effort with an appropriate firm, as well as with law enforcement to develop a high visibility enforcement campaign in a selected site(s);

6. demonstrated ability to implement the recommendations promulgated by the Blue Ribbon Panel To Increase Safety Belt Use Among African Americans within the selected sites;

7. capacity to identify effective strategies to increase safety belt use among high-risk populations, particularly African American youth ages 16-24;

8. demonstrated ability to network with local chapters of national organizations and create a broader partnership to maximize the impact and ensure sustainability of the projects;

9. demonstrated ability and/or willingness to attempt to secure in-kind or other contributions for the purposes of enhancing the program and building sustainability;

10. demonstrated capacity for program planning and analysis;

11. demonstrated adequate knowledge of injury prevention programs;

12. the ability to implement injury prevention programs at the grassroots level, or work with local coalitions or organizations at the grassroots levels to do so;

13. demonstrated experience and technical proficiency in program design, data collection and evaluation; and

14. the capability to outline strategies, successes, and challenges of programs, i.e., identifying new initiatives that can be developed to achieve increased safety belt use in minority communities and serve as a model nationwide.

Application Procedures

The successful applicant shall submit on or before August 5, 2003, at 1 p.m. EDT, one original and two copies of the application package to: National Highway Traffic Safety Administration, Office of Contracts and Procurements, NPO-220, 400 Seventh Street, SW., Room 5301, Washington, DC 20590, Attention: (April Jennings).

An additional three copies will facilitate the review process, but are not required. Applications must be typed on one side of the page only. Only complete packages received on or before August 5, 2003 at 1 p.m. EDT will be considered.

Application Contents

A. The application package must be submitted with OMB Standard 424 (Rev 7-97), including SF 424A and 424B). The Application for Federal Assistance, with the required information filled in and certified assurances must be included. While the SF 424 addresses budget information, and Section B identifies budget categories, the available space does not permit a level of detail that is sufficient to provide for a meaningful evaluation of the proposed costs. A Supplemental Budget Sheet must be submitted to detail the breakdown of the proposed costs (Direct Labor, including labor categories, level of effort, and rate; Materials including itemized equipment; Travel and Transportation, including projected trips and number of people traveling; Subcontractor/Sub-grantee, with similar detail; and Overhead) as well as any costs that the applicant proposes to contribute or obtain from any other sources in support of this effort.

B. The certifications required by 49 CFR part 20.

C. The certifications required by CFR part 29.

D. A technical proposal not to exceed 20 pages describing:

1. The successful applicant's proposed plan of action/approach for designing and implementing the Demonstration Programs, including a discussion of the applicant's infrastructure and/or proposed sub-grantees at the sites proposed for demonstration projects;

2. A timeline/schedule of activities that demonstrates that the successful applicant will comply with NHTSA requests and Cooperative Agreement requirements in a timely manner;

3. A brief biography of each proposed staff person and sub-contractor, if known, and their role on the Demonstration Projects and/or projects at individual sites;

4. Letters of support and commitment to the Metropolitan/Urban Demonstration Projects to Increase African American Safety Belt Use (e.g., from members of the Blue Ribbon Panel to Increase Seat Belt Use in the African American Community, mayors or other elected officials, or local community-based service providers involved with issues specific to the African American Community);

5. A letter of support from the State Governor's Highway Safety Office in which the applicant resides; however, upon award, the successful applicant must submit letters of support from the State Governor's Highway Safety Offices in the States where the selected demonstration sites are located. Contact information for Governor's Highway Safety Offices can be found on the NHTSA Web site at: http://www.nhtsa.dot.gov/nhtsa/whatis/regions/

6. Work samples that demonstrate the required knowledge and skills necessary to implement this Demonstration Project; and

7. Documentation of the applicant's recordkeeping strategy, specifically, how information from the organization and demonstration sites will be organized, maintained and disseminated.

Review Procedures, Criteria and Evaluation Factors

Upon receipt of the application package, each package will initially be reviewed to ensure eligibility and that the application contains all of the items specified in the Application Contents Section of this announcement. An Evaluation Committee using the criteria outlined below will then review all complete applications.

The application package must concisely address the following criteria:

1. Organizational Capabilities—The Applicant shall provide evidence of the existence of a viable organizational entity with sufficient demonstrated experience in performing the tasks required for successful implementation of this Cooperative Agreement; a full and complete description of existing capabilities, and established credibility within the African American community through similar initiatives; and, sufficient staff with demonstrated skill and relevant experience to perform the tasks required to support the Metropolitan/Urban Demonstrations. Applicants must have demonstrated research and evaluation capacity or be affiliated with an academic institution or other entity that possess these critical capabilities. (25 percent)

2. Project Approach/Plan—The Applicant shall provide a sound and feasible plan for the development and implementation of program activities. The approach shall demonstrate a clear and comprehensive understanding of the African American community, knowledge of effective strategies and interventions, and the potential to increase safety belt use. (25 percent)

3. Partnerships/Collaboration—The Applicant shall demonstrate its ability (through examples of current and prior activities) to form effective partnerships with other organizations, coalitions and with community leaders/officials, and to motivate and mobilize the community and community leaders to take action in furtherance of positive change. (25 percent)

4. Project Management—The soundness of the project management structure, budget and the delineation of responsibility for different parts of the project. NHTSA will assess the qualifications and experience of project personnel. The applicant's staffing plan should be adequate to manage and implement the project and identify estimated costs and rationale for the proposed budget. (25 percent)

Terms and Conditions of the Award

1. Prior to award, each grantee must comply with the certification requirements set forth in 49 CFR part 20, DOT's New Restrictions on Lobbying, and those set forth in 49 CFR part 29, DOT's Government-wide Debarment and Suspension (Non-procurement) and Government-wide Requirements for Drug Free Workplace Grants).

2. Progress Reports

The successful applicant will furnish two copies of a monthly letter typed progress report to the COTR and one copy to the Contracting Officer (CO), by the 10th of each month detailing:

a. Accomplishments made during that reporting period, and one copy of any written or graphic product produced;

b. An analysis and interpretation of those accomplishments, and an assessment of results achieved;

c. Funding expended during the reporting period and a total of expenditures for the Cooperative Agreement;

d. What is planned during the next reporting period; and,

e. Specific actions that the successful applicant would like NHTSA to undertake.

3. Annual Summary Report

At the completion of each year of the Cooperative Agreement, the successful applicant will submit an annual summary report. These reports shall document and review the accomplishments of the year. The reports shall include a list and brief summary of materials developed, dissemination of methods used, feedback from the field, a list of partners secured, notable accomplishments, evaluation results and recommendations for future year's efforts. The annual summary report also shall include an executive summary, which may be reproduced for widespread distribution and used as a “best practices guide.”

4. Draft Final Report

The successful applicant shall prepare a Draft Final Report that includes a description of the demonstration project detailing the major activities, events, data collection, methodology, and best practices guide that can be replicated for use in other communities. The successful applicant shall submit the Draft Final Report to the COTR 90 days prior to the end of the performance period. The COTR will review the draft report and provide comments to the successful applicant within 30 days of receipt of the document.

5. Final Report

The revised Draft Final Report shall be delivered to the COTR one (1) month before the end of the performance period and reflect the COTR's comments. The comprehensive report should detail the major activities, events, data collection, methodology, and best practices guide that can be replicated in other communities. The successful applicant shall supply the COTR with:

(a) one camera-ready version of the document, as printed and one copy, on appropriate media disk in Microsoft Word Format or CD ROM of the document in the original program format that was used for the printing process. Some documents require several different original program languages (e.g., PageMaker for general layout and design, PowerPoint for charts, Project for project timeline management, and another for photographs, etc.). Each of these component parts should be available on disk, properly labeled with the program format and the file names. For example, PowerPoint files should be clearly identified by both a descriptive name and file name (e.g., 2001 Fatalities—chart 1.ppt).

(b) document must be completely assembled with all colors, charts, sidebars, photographs, and graphics, if appropriate). This can be delivered to NHTSA on a standard 1.44 floppy diskette (for small documents) or on any appropriate archival media (for larger documents) such as CD ROM. The successful applicant will provide to the COTR four hard paper copies of the final document, as well as a disk containing the redlined version of the Draft Final Report reflecting changes made in response to the COTR's comments.

6. During the effective performance of Cooperative Agreement awarded as a result of this announcement, the Agreement shall be subject to the National Highway Traffic Safety Administration's General Provisions for Assistance Agreements, dated July 1995.

Marilena Amoni,
Associate Administrator for Program Development and Delivery.

Appendix A—Cities With Highest African American Populations

1. Jacksonville, FL

2. Atlanta, GA

3. Chicago, IL

4. New Orleans, LA

5. Cleveland, OH

6. Columbus, OH

7. Philadelphia, PA

8. Birmingham, AL

9. Memphis, TN

10. St. Louis, MO

11. Indianapolis, IN

12. Boston, MA

13. Milwaukee, WI

[FR Doc. 03-17109 Filed 7-7-03; 8:45 am]

BILLING CODE 4910-59-P